DEPARTMENT OF DEFENSE

Department of the Army, Corps of Engineers

Intent To Prepare an Environmental Impact Statement (EIS) for a Letter Report for the Wilmington Harbor, North Carolina Project, New Hanover and Brunswick Counties, North Carolina

AGENCY: Corps of Engineers, Department of the Army, DoD.

ACTION: Notice of intent (NOI) to Prepare an Environmental Impact Statement (EIS) for the Wilmington Harbor, North Carolina Project.

SUMMARY: The North Carolina State Ports Authority (NCSPA) prepared a feasibility study pursuant to section 203 of the Water Resources Development Act of 1986, as amended, and in [February 2020] submitted that study to the Assistant Secretary of the Army for Civil Works (ASA(CW)) for review for the purpose of determining whether the study, and the process under which the study was developed, comply with Federal laws and regulations applicable to feasibility studies of water resources development project. This notice advises the public that the U.S. Army Corps of Engineers (Corps), at the direction of the ASA(CW), intends to prepare an Environmental Impact Statement (EIS) to address conditions for implementation of section 203 studies authorized for construction pursuant to section 403 of Water Resources Development Act of 2020. The ASA(CW)'s review of the NCSPA's study identified that National Environmental Policy Act and environmental compliance activities must be completed prior to implementation of the project. The NCSPA described the purpose of the project to be evaluated in the EIS as deepening and widening of the Wilmington Harbor Navigation Project. The USACE, as the lead federal agency, has determined the proposed action may significantly affect the quality of the human environment and seeks comments regarding the identification of potential alternatives, information, and analyses relevant to the report to improve navigation, beneficial use of dredge material, and to assess the potential social, economic, and environmental impacts of the proposed action.

DATES: Written comments must be submitted by July 22, 2024.

ADDRESSES: Written comments regarding the proposed EIS scope should be submitted to: U.S. Army Corps of Engineers, Wilmington District; ATTN: Wilmington Harbor 403, 69 Darlington Avenue, Wilmington, North Carolina 28403. Individuals who would like to provide comments electronically should submit comments by email to: WilmingtonHarbor403@usace.army.mil. Comments may also be submitted online using the public comment tool found on the project website: https://www.saw.usace.army.mil/Missions/Navigation/Dredging/Wilmington-Harbor-403-Letter-Report-and-EIS/.

FOR FURTHER INFORMATION CONTACT: Andrea Stolba at (910) 882-4936 or email at andrea.m.stolba@usace.army.mil.

SUPPLEMENTARY INFORMATION:

1. Background. An Integrated section 203 Study and Environmental Report for potential navigation improvements to the Wilmington Harbor Federal navigation channel serving the Port of Wilmington, North Carolina was prepared in 2020 by the NCSPA under the authority of section 203 of the WRDA of 1986, as amended. The study area was the existing Wilmington Harbor federal navigation channel that originates offshore and extends approximately 38 miles from entrance channel in the Atlantic Ocean and up the Cape Fear River to the City of Wilmington, North Carolina where it serves the Port of Wilmington. The navigation improvements proposed in the 2020 report were conditionally authorized by Section 403 of the WRDA of 2020: Authorization of Projects Based on Feasibility Studies Prepared by Non-Federal Interests. The section 203 authorization for the navigation improvements project, Wilmington Harbor, North Carolina, is conditioned upon the resolution of comments set forth in the ASA(CW)'s review assessment, dated May 17, 2020. An EIS evaluation of the proposed project effects on the human environment is required to address several comments from the ASA(CW)'s review assessment.

2. Purpose and Need for the Proposed Action. The purpose of the proposed action is to contribute to national economic development (NED) by addressing transportation inefficiencies for the forecasted vessel fleet, consistent with protecting the Nation's environment. The need for the proposed action is to address the constraints that contribute to inefficiencies in the existing navigation system's ability to safely serve forecasted vessel fleet and cargo types and volumes.

3. Preliminary Action Alternatives. The USACE has identified two preliminary action alternatives for inclusion in the EIS: 47-foot and 46-foot deepening alternatives. The 47- foot alternative was conditionally authorized in section 403 of WRDA 2020 and would result in the channel deepening to −47 feet MLLW from the Anchorage Basin through the Lower Swash Reach (Mid-River) and to −49 feet MLLW in the ocean bar reaches and an extended and realigned entrance channel; and channel widening in some reaches. The 46-foot alternative would result in the channel deepening to −46 feet MLLW from the Anchorage Basin through the Lower Swash Reach (Mid-River) and to −48 feet MLLW in the ocean bar reaches and an extended and realigned entrance channel; and channel widening in some Reaches.

Dredged material management for the preliminary action alternatives was proposed to be placed in the Wilmington Ocean Dredged Material Disposal Site; however, the USACE will also evaluate beneficial use of dredged material.

Construction of any action alternative may be accomplished through mechanical (e.g., clamshell) and hydraulic (e.g., cutterhead and hooper) dredge equipment, and may require blasting in reaches where hard rock is encountered.

A no action alternative will also be evaluated in the EIS, which provides for the existing authorization channel depth of −38 feet MLLW at the Anchorage Basin, −42 feet MLLW in the Mid-River reaches, and −44 feet MLLW through the ocean bar reaches and entrance channel.

4. Summary of Expected Impacts. The USACE conducted an early scoping comment period for the proposed federal action in June 2023 and received public comments on anticipated effects to resources resulting from the proposed action. Additionally, the USACE has been coordinating on potential resources to be evaluated through outreach to stakeholders since the June 2023 public comment period. The USACE will evaluate potential effects to hydrology and hydraulics, groundwater, water quality (dissolved oxygen, temperature, and salinity), air quality, cultural and historical resources, wetlands, endangered species and habitat, and aquatic resources. Additionally, the USACE will evaluate the potential social effects of the proposed action, including environmental justice issues.

5. Anticipated Permits and Other Authorizations. The USACE is anticipating that the proposed action would require a permit pursuant to section 401 of the Clean Water Act (CWA). While the USACE does not process and issue permits for its own activities, pursuant to 33 CFR 336.1, the USACE does provide an analysis of the discharge of dredged or fill material under all applicable substantive legal requirements, including application of the section 404(b)(1) guidelines of the CWA. Other environmental review and consultation requirements include, but are not limited to, the National Historic Preservation Act, Clean Air Act, Endangered Species Act, Fish and Wildlife Coordination Act, Coastal Zone Management Act, Magnuson-Steven Fisheries Conservation Management Act, Marine Protection Research and Sanctuaries Act, and, if applicable, the Marine Mammal Protection Act.

6. Schedule. The USACE will use input provided by Federal, state, and local government agencies, Tribal Nations, other interested parties, and the general public in the preparation of the Draft EIS. The USACE has developed a preliminary schedule for the publication of the Draft EIS. The Draft EIS is anticipated to be made available for review in Fall 2025. The Draft EIS will be filed with the U.S. Environmental Protection Agency (EPA) and will be available for public comment for 45 days from the date the EPA publishes its Federal Register notice. The USACE will provide public notification of the availability of the Draft EIS. If a Record of Decision is approved and signed, it will be no earlier than 30 days after the published Final EIS.

7. Scoping Process. The USACE will be soliciting public comments on the scope of the EIS through July 12, 2024. During the scoping period, the USACE invites federal, state, and local agencies, Tribal Nations, other interested parties, and the general public to participate in the scoping process to present comments regarding the range of actions, alternatives, and potential impacts to be considered in the EIS, including comments regarding opportunities for beneficial use of dredged material. The purpose of the scoping process is to provide information to the public, to serve as a mechanism to solicit full and open agency and public input on alternatives and identification of significant issues to be analyzed in the EIS.

The USACE will host public meetings to provide information and provide opportunity for submission of comments. Four virtual public meetings will be held in June 2024 each focusing on a different topic. All virtual meeting links will be advertised on the USACE's project website at https://www.saw.usace.army.mil/Missions/Navigation/Dredging/Wilmington-Harbor-403-Letter-Report-and-EIS/. Virtual meeting information posted on the project website will include meeting times, agendas, and instructions for joining the meeting. An in-person public open house will be held at Sunset Park Elementary School, 613 Alabama Avenue, Wilmington, NC 28401 on June 13, 2024, from 3:00 to 7:00 p.m.

Written comments regarding the proposed EIS scope may be submitted by mail to: U.S. Army Corps of Engineers, Wilmington District; ATTN: Wilmington Harbor 403, 69 Darlington Avenue, Wilmington, North Carolina 28403, or by email to: WilmingtonHarbor403@usace.army.mil. Comments may also be submitted online using the public comment tool found on the project website: https://www.saw.usace.army.mil/Missions/Navigation/Dredging/Wilmington-Harbor-403-Letter-Report-and-EIS/.

All comments received will become part of the administrative record and are subject to public release under the Freedom of Information Act.

Daniel H. Hibner,
Brigadier General, USA, Commanding.

[FR Doc. 2024-12577 Filed 6-6-24; 8:45 am]

BILLING CODE 3720-58-P